DEPARTMENT OF COMMERCE

International Trade Administration

United States-Mexico-Canada Agreement (USMCA), Article 10.12: Binational Panel Reviews: Notice of Completion of Panel Review

AGENCY: United States Section, USMCA Secretariat, International Trade Administration, Department of Commerce.

ACTION: Notice of Completion of Panel Review in the matter of Certain Softwood Lumber Products From Canada: Final Results of Antidumping Duty Administrative Review; 2019 (Secretariat File Number: USA-CDA-2021-10.12-04).

SUMMARY: The USA-CDA-2021-10.12-04 Panel has granted a joint motion for voluntary dismissal filed on behalf of:

The Government of Canada; the Governments of Ontario and Québec; the British Columbia Lumber Trade Council; Resolute FP Canada Inc. and affiliates; the Ontario Forest Industries Association, the Conseil de l'industrie forestière du Québec, and individual members of each; Canfor Corporation, Canadian Forest Products, Ltd., and Canfor Wood Products Marketing, Ltd.; Tolko Marketing and Sales Ltd., Tolko Industries Ltd., and Gilbert Smith Forest Products Ltd.; and West Fraser Mills Ltd.; the Committee Overseeing Action for Lumber International Trade Investigations or Negotiations; and Sierra Pacific Industries, including its subsidiary Seneca Sawmill Company.

The motion requested the termination of panel review in the Certain Softwood Lumber Products From Canada: Final Results of Antidumping Duty Administrative Review; 2019 (Softwood Lumber AD AR2) dispute.

Given the Panel's ruling on this motion, and pursuant to Rule 75(1) of the USMCA Rules of Procedure for Article 10.12 Binational Panel Reviews (Rules), the Softwood Lumber from Canada AD AR2 dispute has been dismissed.

As a result, and in accordance with Rules 81(a) and 82(b), notice is hereby given that panel review of the Softwood Lumber from Canada AD AR2 dispute has been completed effective October 23, 2025.

FOR FURTHER INFORMATION CONTACT: Vidya Desai, United States Secretary, NAFTA Secretariat, Room 2061, 1401 Constitution Avenue NW, Washington, DC 20230, (202) 482-5438.

SUPPLEMENTARY INFORMATION: Article 10.12 of Chapter 10 of USMCA provides a dispute settlement mechanism involving trade remedy determinations issued by the Government of the United States, the Government of Canada, and the Government of Mexico. Following a Request for Panel Review, a Binational Panel is composed to review the trade remedy determination being challenged and issue a binding Panel Decision. There are established USMCA Rules of Procedure for Article 10.12 (Binational Panel Reviews), which were adopted by the three governments for panels requested pursuant to Article 10.12(2) of USMCA which requires Notices of Completion of Panel Review to be published in accordance with Rule 82. For the complete Rules, please see https://can-mex-usa-sec.org/secretariat/agreement-accord-acuerdo/usmca-aceum-tmec/rules-regles-reglas/article-article-articulo_10_12.aspx?lang=eng.

Dated: November 17, 2025.
Vidya Desai,
U.S. Secretary, USMCA Secretariat.

[FR Doc. 2025-20314 Filed 11-18-25; 8:45 am]

BILLING CODE 3510-GT-P